DEPARTMENT OF COMMERCE

International Trade Administration

[A-580-911]

Thermal Paper From the Republic of Korea: Preliminary Results and Rescission, in Part, of Antidumping Duty Administrative Review; 2023-2024

AGENCY: Enforcement and Compliance, International Trade Administration, Department of Commerce.

SUMMARY: The U.S. Department of Commerce (Commerce) preliminarily determines that the thermal paper from the Republic of Korea (Korea) is not being sold in the United States at less than normal value (NV) during the period of review (POR) November 1, 2023, through October 31, 2024. Interested parties are invited to comment on these preliminary results.

DATES: Applicable January 27, 2026.

FOR FURTHER INFORMATION CONTACT: Elizabeth Beuley, AD/CVD Operations, Office IX, Enforcement and Compliance, International Trade Administration, U.S. Department of Commerce, 1401 Constitution Avenue NW, Washington, DC 20230; telephone: (202) 482-3269.

SUPPLEMENTARY INFORMATION:

Background

On November 22, 2021, Commerce published in the Federal Register the antidumping duty order on thermal paper from Korea.¹ On November 1, 2024, Commerce published in the Federal Register a notice of opportunity to request an administrative review of the Order for the POR.² On December 9, 2024, Commerce tolled the deadline to issue the preliminary results in administrative reviews for which the opportunity to request the review was published in November or December 2024, by 90 days.³ The opportunity notice to request this administrative review was published on November 1, 2024.⁴ On December 18, 2024, based on timely requests for review, we initiated an administrative review of the Order covering 17 companies in accordance 751(a) of the Tariff Act of 1930, as amended (the Act).⁵

¹ See Thermal Paper from Germany, Japan, the Republic of Korea, and Spain: Antidumping Duty Orders, 86 FR 66284 (November 22, 2021) (Order).

² See Antidumping or Countervailing Duty Order, Finding, or Suspended Investigation Opportunity to Request Administrative Review and Join Annual Inquiry Service List, 89 FR 87338 (November 1, 2024) (Opportunity Notice).

³ See Memorandum, “Tolling of Deadlines for Antidumping and Countervailing Duty Proceedings,” dated December 9, 2024.

⁴ See Opportunity Notice.

⁵ See Initiation of Antidumping and Countervailing Duty Administrative Reviews, 89 FR 102856 (December 18, 2024).

Due to the lapse in appropriations and Federal Government shutdown, on November 14, 2025, Commerce tolled all deadlines in administrative proceedings by 47 days,⁶ and, due to a backlog of documents that were electronically filed via Enforcement and Compliance's Antidumping and Countervailing Duty Centralized Electronic Service System (ACCESS) during the Federal Government shutdown, on November 24, 2025, Commerce tolled all deadlines in administrative proceedings by an additional 21 days.⁷ On December 22, 2025, we extended the preliminary results of this review.⁸ Accordingly, the deadline for these preliminary results is now January 21, 2026.

⁶ See Memorandum, “Deadlines Affected by the Shutdown of the Federal Government,” dated November 14, 2025.

⁷ See Memorandum, “Tolling of all Case Deadlines,” dated November 24, 2025.

⁸ See Memorandum, “Extension of Deadline for the Preliminary Results of the 2023-2024 Antidumping Administrative Review,” dated December 22, 2025.

For a complete description of the events that followed the initiation of this review, see the Preliminary Decision Memorandum.⁹ A list of the topics included in the Preliminary Decision Memorandum is attached as Appendix I to this notice. The Preliminary Decision Memorandum is a public document and is on file electronically via ACCESS. ACCESS is available to registered users at http://access.trade.gov. In addition, a complete version of the Preliminary Decision Memorandum can be accessed directly at https://access.trade.gov/public/FRNoticesListLayout.aspx.

⁹ See Memorandum, “Decision Memorandum for the Preliminary Results of 2023-2024 Administrative Review of the Antidumping Duty Order on Thermal Paper from the Republic of Korea,” dated concurrently with, and hereby adopted by, this notice (Preliminary Decision Memorandum).

Scope of the Order

The merchandise subject to the Order is thermal paper from Korea. For a complete description of the scope of the Order, see the Preliminary Decision Memorandum.

Methodology

Commerce is conducting this review in accordance with section 751(a) of the Act. We calculated constructed export price in accordance with section 772 of the Act. We calculated NV in accordance with section 773 of the Act. For a full description of the methodology underlying these preliminary results, see the Preliminary Decision Memorandum.

Partial Rescission of Administrative Review

Pursuant to 19 CFR 351.213(d)(3), Commerce will rescind an administrative review

when there are no entries of subject merchandise during the POR for which liquidation is suspended.¹⁰ Normally, upon completion of an administrative review, the suspended entries are liquidated at the antidumping duty assessment rate calculated for the review period.¹¹ Therefore, for an administrative review of a company to be conducted, there must be a suspended entry that Commerce can instruct U.S Customs and Border Protection (CBP) to liquidate at the AD assessment rate calculated for the POR.¹²

¹⁰ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹¹ See 19 CFR 351.212(b)(2).

¹² See 19 CFR 351.213(d)(3).

On February 4, 2025, we notified parties of our intent to rescind this administrative review regarding the companies listed in Appendix II because there were no suspended entries of subject merchandise produced or exported by these companies during the POR, and we invited interested parties to comment.¹³ No parties commented on our intent to rescind the review, in part. In the absence of any suspended entries of subject merchandise from these companies during the POR, we are rescinding this administrative review for the companies listed in Appendix II, in accordance with 19 CFR 351.213(d)(3).

¹³ See Memorandum, “Notice of Intent to Rescind” dated February 4, 2025 (Intent to Rescind Memorandum).

Rate for Company Not Selected for Individual Examination

The Act and Commerce's regulations do not address the rate to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

Where the weighted-average dumping margins for individually examined respondents are zero, de minimis, or determined based entirely on facts available, section 735(c)(5)(B) of the Act provides that Commerce may use “any reasonable method to establish the estimated all-others rate for exporters and producers not individually investigated . . .” In this review, Commerce preliminarily calculated a weighted-average dumping margin of zero percent for Hansol Paper Company (Hansol). Therefore, we are preliminarily assigning a rate of zero percent to Tele-Paper (M) Sdn. Bhd. (Tele-paper), the company not selected for individual examination in this review, in accordance with section 735(c)(5)(B) of the Act.

Preliminary Results of Review

We preliminarily determine that the following estimated weighted-average dumping margins exist for the period November 1, 2023, through October 31, 2024:

Producer or exporter | Weighted- average dumping margin (percent)
Hansol Paper Company ¹⁴ | 0.00
Tele-Paper (M) Sdn. Bhd. | 0.00

Disclosure and Public Comment

¹⁴ Hansol Paper Company is also known as Hansol Paper Co., Ltd. See, e.g., Hansol's Letter, “Section A Questionnaire Response,” dated February 10, 2025, at A-1 and Exhibit Appendix I; see also Thermal Paper from the Republic of Korea: Preliminary Results of Antidumping Duty Administrative Review; 2022-2023, 89 FR 96640 (December 5, 2024), and accompanying Preliminary Decision Memorandum at 1.

Commerce intends to disclose its calculations and analysis performed to interested parties for these preliminary results within five days of any public announcement or, if there is no public announcement, within five days of the date of publication of this notice in accordance with 19 CFR 351.224(b).

Case briefs or other written comments may be submitted to the Assistant Secretary for Enforcement and Compliance. Pursuant to 19 CFR 351.309(c)(1)(ii), we have modified the deadline for interested parties to submit case briefs to Commerce to no later than 21 days after the date of the publication of this notice. Rebuttal briefs, limited to issues raised in the case briefs, may be filed not later than five days after the date for filing case briefs.¹⁵ Interested parties who submit case briefs or rebuttal briefs in this administrative review must submit: (1) a table of contents listing each issue; and (2) a table of authorities.¹⁶ All briefs must be filed electronically using ACCESS.¹⁷ An electronically filed document must be received successfully in its entirety by ACCESS by 5:00 p.m. Eastern Time on the established deadline.

¹⁵ See 19 CFR 351.309(d); see also Administrative Protective Order, Service, and Other Procedures in Antidumping and Countervailing Duty Proceedings, 88 FR 67069, 67077 (September 29, 2023).

¹⁶ See 19 CFR 351.309(c)(2) and (d)(2).

¹⁷ See 19 CFR 351.303.

As provided under 19 CFR 351.309(c)(2)(iii) and (d)(2)(iii), we request that interested parties provide at the beginning of their briefs a public, executive summary for each issue raised in their briefs.¹⁸ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule, 88 FR at 67077.

Pursuant to 19 CFR 351.310(c), interested parties who wish to request a hearing must submit a written request to the Assistant Secretary for Enforcement and Compliance, filed electronically via ACCESS within 30 days after the date of publication of this notice. Requests should contain: (1) the party's name, address, and telephone number; (2) the number of participants; and (3) a list of issues to be discussed. Issues raised in the hearing will be limited to those raised in the respective case briefs. Oral presentations at the hearing will be limited to issues raised in the briefs. If a request for a hearing is made, parties will be notified of the time and date for the hearing.²⁰

²⁰ See 19 CFR 351.310(d).

Assessment Rates

Upon completion of this administrative review, Commerce shall determine, and CBP shall assess, antidumping duties on all appropriate entries. The final results of this review shall be the basis for the assessment of antidumping duties on entries of merchandise covered by this review and for future deposits of estimated duties, where applicable.²¹ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²¹ See section 751(a)(2)(C) of the Act.

Pursuant to 19 CFR 351.212(b)(1), if Hansol's weighted-average dumping margin is not zero or de minimis (i.e., less than 0.5 percent) in the final results of this review, we intend to calculate importer-specific ad valorem antidumping duty assessment rates based on the ratio of the total amount of antidumping duties calculated for the examined sales to the total entered value of those same sales. If Hansol's weighted-average dumping margin in the final results is zero or de minimis within the meaning of 19 CFR 351.106(c)(1), or an importer-specific rate is zero or de minimis within the meaning of 19 CFR 351.106(c)(2), we will instruct CBP to liquidate the appropriate entries without regard to antidumping duties.

Commerce's “automatic assessment” practice will apply to entries of subject merchandise during the POR produced by Hansol for which it did not know that the merchandise it sold to an intermediary (e.g., a reseller, trading company, or exporter) was destined for the United States. In such instances, we will instruct CBP to liquidate those entries at the all-others rate (i.e., 6.19 percent),²² if there is no rate for the intermediate company(ies) involved in the transaction.²³

²² See Order, 86 FR at 66286.

²³ For a full discussion of this practice, see Antidumping and Countervailing Duty Proceedings: Assessment of Antidumping Duties, 68 FR 23954 (May 6, 2003).

For Tele-Paper, the company that was not selected for individual examination, we intend to assign an assessment rate equal to the weighted-average dumping margin calculated in the final results of this review for Hansol, unless that rate is zero or de minimis, in which case we intend to instruct CBP to liquidate relevant entries without regards to antidumping duties..

For the companies for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the date of publication of this notice in the Federal Register.

Cash Deposit Requirements

The following deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, or the LTFV investigation, but the manufacturer is, then the cash deposit rate will be the rate established for the most recent segment for the manufacturer of the merchandise; and (4) the cash deposit rate for all other manufacturers or exporters will continue to be 6.19 percent, the all-others rate established in the LTFV investigation.²⁴ These cash deposit requirements, when imposed, shall remain in effect until further notice.

²⁴ See Order, 86 FR at 66286.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1).

Notification to Importers

This notice also serves as a preliminary reminder to importers of their responsibility under 19 CFR 351.402(f) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these results in accordance with sections 751(a)(1) and 777(i)(1) of the Act, and 19 CFR 351.213 and 351.221(b)(4).

Dated: January 21, 2026.
Christopher Abbott,
Deputy Assistant Secretary for Policy and Negotiations, performing the non-exclusive functions and duties of the Assistant Secretary for Enforcement and Compliance.

Appendix I

List of Topics in the Preliminary Decision Memorandum

I. Summary

II. Background

III. Scope of the Order

IV. Discussion of the Methodology

V. Recommendation

Appendix II

Companies Rescinded From Review

1. Akon Rulo Kagit Plastik Imalat IHR ITH. SAN. TIC. A.S.

2. Amtress (M) Sdn. Bhd.

3. Besto Sdn. Bhd.

4. Convertidoras PCM, S.A. de C.V.

5. Dor Etiket San VE Tic. Ltd.

6. Engin Kagir Mamulleri San. Tic.

7. Formas para Negocios, S.A. de C.V.

8. Formularios de Mexico S.A. de C.V.

9. Kagit Mamulleri San. Tic. Ltd., Stl.

10. Kooka Paper Manufacturing Sdn. Bhd.

11. Papeles y Conversiones de Mexico, S.A. de C.V.

12. Sailing Paper (Malaysia) Sdn. Bhd.

13. ShenZhen Sailing Paper Co., Ltd.

14. Wellden (M) Sdn. Bhd.

15. Wingle Industrial (Malaysia) Sdn. Bhd.

[FR Doc. 2026-01601 Filed 1-26-26; 8:45 am]

BILLING CODE 3510-DS-P